DEPARTMENT OF COMMERCE

National Oceanic and Atmospheric Administration

[Docket No. 080307400-8401-01]

RIN 0648-ZB88

Comparative Analysis of Marine Ecosystem Organization (CAMEO)

AGENCY: National Marine Fisheries Service (NMFS), National Oceanic and Atmospheric Administration (NOAA), Commerce.

ACTION: Notice of funding availability.

SUMMARY: This announcement is a solicitation for proposals for the Comparative Analysis of Marine Ecosystem Organization (CAMEO) Program. The purpose of CAMEO is to strengthen the scientific basis for an ecosystem approach to stewardship of ocean and coastal resources and ecosystems. To fulfill this purpose, CAMEO will assist policy makers and resource managers to make ecosystem-science based decisions that fulfill policy goals and management objectives of society. The program will support research to understand complex dynamics controlling productivity, behavior, population connectivity, climate variability and anthropogenic pressures. It envisages the use of a diverse array of ecosystem models, comparative analyses of managed and unmanaged areas, and ecosystem-scale mapping in support of research, forecasting and decision support. Proposals are requested for 1-2 year projects for initial modeling, retrospective, and pilot studies.

DATES: Proposals must be received no later than June 17, 2008.

ADDRESSES: Electronic application packages are strongly encouraged and are available at: http://www.grants.gov/. Paper application packages are available on the NOAA Grants Management website at: http://www.ago.noaa.gov/grants/appkit.shtml. If the applicant has difficulty accessing Grants.gov or downloading the required forms from the NOAA website, they should contact: Roy Williams, CAMEO, 1315 East-West Highway, Room 12436, Silver Spring, MD, 20910 or by phone at (301) 713-2367, ext. 141, or via internet at Roy.Williams@noaa.gov.

FOR FURTHER INFORMATION CONTACT: Technical Information: Michael Ford, CAMEO Program Manager, NOAA/NMFS, 301-713-2239, Michael.Ford@noaa.gov; Phil Taylor, Program Director, Biological Oceanography, OCE/GEO/NSF, 703-292-8582, prtaylor@nsf.gov; or Cynthia Suchman, Associate Program Director, Biological Oceanography, OCE/GEO/NSF, 703/292-8582, csuchman@nsf.gov. Business Management Information: Roy Williams, NMFS/S&T Grants Administrator, 301-713-2367 x 141, Roy.Williams@noaa.gov.

SUPPLEMENTARY INFORMATION: The Objective of Comparative Analysis of Marine Ecosystem Organization (CAMEO) is to strengthen the scientific basis for an ecosystem approach to stewardship of ocean and coastal resources and ecosystems. To fulfill its objective, the product of the CAMEO program must assist policy makers and resource managers to make science based decisions that fulfill policy goals and management objectives of society. This means that for CAMEO to be successful, it must include an explicit and realistic path for translating research results into usable decision-making support tools.

Comparative studies of ecosystems have a long history in marine ecology. Many of these studies have been theoretical, using mathematical models with limited or no data, and narrow in scope in terms of the properties of ecosystems and the drivers of change. Others have compared and contrasted large amounts of observational data to draw general inferences. CAMEO's goal, and challenge, is to carefully design approaches by which similarities and divergences among observed ecosystems (comparative ecosystem analyses) are effectively interpreted in a manner that can yield management insights. The spatial scale of comparative analyses can range from ocean basins to local oceanic (e.g., seamounts, shelves) and coastal (e.g., bays and estuaries) features. The scale should be appropriate to the ecosystem properties considered in the proposal. In some cases, a hierarchy of nested scales may be appropriate. Obvious components of this comparative approach involve the use of experiments, models, and observational data, ultimately leading to sophisticated integrations of all three. Spatial contrasts offered by comparing ecosystem function and structure within and outside marine protected areas are one form of comparative analysis that may offer insights into how ecosystems respond to human activities. An important and ancillary challenge will be to identify recent and emerging technologies (e.g. molecular techniques and instrumentation) that may be applied toward the significant challenges of CAMEO. In framing issues to be addressed by CAMEO, some important ecosystem concepts, such as resilience, regime shifts and connectivity are used without rigorously defining or thoroughly discussing them. These are evolving concepts, and it is expected that they will be defined in the context of the research that is proposed and refined through CAMEO research.

ELECTRONIC ACCESS: The full text of the full funding opportunity announcement for this program can be accessed via the Grants.gov web site at http://www.grants.gov. The announcement will also be available by contacting the program officials identified under FOR FURTHER INFORMATION CONTACT. Applicants must comply with all requirements contained in the full funding opportunity announcement.

STATUTORY AUTHORITY: Authority for CAMEO is provided by the following: 33 U.S.C. 1442 for the National Marine Fisheries Service and 42 U.S.C. 1861-75 for the National Science Foundation.

CFDA: 11.472, Unallied Science Program

FUNDING AVAILABILITY: It is anticipated that about $2,000,000 in FY 2008 will be available to support approximately 5-10 projects in response to this announcement.

ELIGIBILITY: Eligible applicants are institutions of higher education, other non-profits, state, local, Indian Tribal Governments, and Federal agencies that possess the statutory authority to receive financial assistance.

COST SHARING REQUIREMENTS: None is required.

EVALUATION AND SELECTION PROCEDURES: The general evaluation criteria and selection factors that apply to full applications to this funding opportunity are summarized below. The evaluation criteria for full applications will have different weights and details. Further information about the evaluation criteria and selection factors can be found in the full funding opportunity announcement.

EVALUATION CRITERIA FOR PROJECTS: The following evaluation criteria and weighting of the criteria are as follows: 1. Importance and/or relevance and applicability of proposed project to the program goals: (20 percent). This ascertains whether there is intrinsic value in the proposed work and/or relevance to NOAA, federal, regional, state, or local goals and priorities. For this competition, this criterion assesses whether proposals address research that will make substantial contributions or develop products leading to improved management of coastal resources (this criterion fulfills the Broader Impacts requirement for NSF proposals);

2. Technical/Scientific Merit (50 percent): This assesses whether the approach is technically sound and/or innovative, if the methods are appropriate, and whether there are clear project goals and objectives for this management activity. For this competition, this criterion assesses whether proposals address the intrinsic scientific value of the proposed work and the likelihood that it will lead to fundamental advancements, new discoveries or will have substantial impact on progress in that field. The proposed work should have focused science objectives and a complete and efficient strategy for making measurements and observations in support of the objectives. The approach should be sound and logically planned throughout the cycle of the proposed work;

3. Overall qualifications of applicants (20 percent): This ascertains whether the applicant possesses the necessary education, experience, training, facilities, and administrative resources to accomplish the project. For this competition, this criterion assesses whether the proposals address the capability of the investigator and collaborators to complete the proposed work as evidenced by past research accomplishments, previous cooperative work, timely communication, and the sharing of findings, data, and other research products;

4. Project costs (10 percent): The Budget is evaluated to determine if it is realistic and commensurate with the project needs and time-frame. For this competition, this criterion assesses whether proposals address the adequacy of the proposed resources to accomplish the proposed work, and the appropriateness of the requested funding with respect to the total available funds.

5. Outreach and Education (0 percent): Outreach and education NOAA assesses whether this project provides a focused and effective education and outreach strategy regarding NOAA's mission to protect the Nations natural resources.

REVIEW AND SELECTION PROCESS: Proposals will be evaluated individually in accordance with the assigned weights of the above evaluation criteria by independent peer mail review and/or by independent peer panel review. Both Federal and non-Federal experts in the field may be used in this process. The peer mail reviewers have expertise in the subjects addressed by the proposals. Each mail reviewer will see only certain individual proposals within his or her area of expertise, and will score them individually on the following scale: Excellent (1), Very Good (2), Good (3), Fair (4), Poor (5). The peer panel will comprise 6 to 10 individuals, with each individual having expertise in a separate area, so that the panel, as a whole, covers a range of scientific expertise. The panel will have access to all mail reviews of proposals, and will use the mail reviews in discussion and evaluation of the entire slate of proposals. All proposals will be evaluated and scored individually. The peer panel shall rate the proposals using the evaluation criteria and scores provided above. Scores from each peer panelist shall be averaged for each application and presented to the program officers. No consensus advice will be given by the independent peer mail review or the review panel. The program officers will neither vote or score proposals as part of the independent peer panel nor participate in discussion of the merits of the proposal. Those proposals receiving an average panel score of “Fair” or “Poor” will not be given further consideration, and proposers will be notified of non selection. For the proposals rated by the panel as either “Excellent,” “Very Good,” or “Good”, the program officers will (a) select the proposals to be recommended for funding according to the averaged ratings, and/or by applying the project funding priorities listed below; (b) determine the total duration of funding for each proposal; and (c) determine the amount of funds available for each proposal subject to the availability of fiscal year funds. Awardsmay not necessarily be made in rank order. In addition, proposals rated by the panel as either “Excellent,” “Very Good,” or “Good” that are not funded in the current fiscal period, may be considered for funding in another fiscal period without having to repeat the competitive, review process. Recommendations for funding are then forwarded to the selecting official, the Director of Scientific Programs and Chief Science Advisor for NOAA/NMFS, or the Program Director for NSF Biological Oceanography, for the final funding decision. The Director shall make the final funding decisions based upon reviewer/program officer recommendations, project funding priorities and availability of funds. At the conclusion of the review process, NOAA Ecosystem Goal Team Lead and the NSF Biological Oceanography Program Director or staff will notify lead proposers for those projects recommended for support, and negotiate revisions in the proposed work and budget. Final awards will be issued by the agency responsible for a specific project after receipt and processing of any specific materials required by the agency. Investigators may be asked to modify objectives, work plans or budgets, and provide supplemental information required by the agency prior to the award. When a decision has been made (whether an award or declination), verbatim anonymous copies of reviews and summaries of review panel deliberations, if any, will be made available to the proposer. Declined applications will be held in the NMFS/S&T office for the required 3 years in accordance with the current retention requirements, and then destroyed.

SELECTION FACTORS FOR PROJECTS: The Selecting Official shall award in the rank order unless the proposal is justified to be selected out of rank order based on one or more of the following factors: 1. Availability of funding 2. Balance and distribution of funds a. By research area b. By project type c. By type of institutions d. By type of partners e. Geographically 3. Duplication of other projects funded or considered for funding by NOAA/Federal agencies. 4. Program priorities and policy factors as set in Sections I.A and B of the FFO. 5. Applicants prior award performance. 6. Partnerships with/Participation of targeted groups. 7. Adequacy of information necessary for NOAA staff to make a National Environmental Policy Act (NEPA) determination and draft necessary documentation before recommendations for funding are made to the NOAA Grants Officer.

INTERGOVERNMENTAL REVIEW: Applications under this program are not subject to Executive Order 12372, Intergovernmental Review of Federal Programs.

LIMITATION OF LIABILITY: In no event will NOAA or the Department of Commerce be responsible for proposal preparation costs if these programs fail to receive funding or are cancelled because of other agency priorities. Publication of this announcement does not oblige NOAA to award any specific project or to obligate any available funds.

NATIONAL ENVIRONMENTAL POLICY ACT (NEPA): NOAA must analyze the potential environmental impacts, as required by the National Environmental Policy Act (NEPA), for applicant projects or proposals which are seeking NOAA federal funding opportunities. Detailed information on NOAA compliance with NEPA can be found at the following NOAA NEPA website: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects,and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

THE DEPARTMENT OF COMMERCE PRE-AWARD NOTIFICATION REQUIREMENTS FOR GRANTS AND COOPERATIVE AGREEMENTS: The Department of Commerce Pre-Award Notification Requirements for Grants and Cooperative Agreements contained in the Federal Register notice of February 11, 2008 (73 FR 7696), are applicable to this solicitation.

PAPERWORK REDUCTION ACT: This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001. Notwithstanding any other provision of law, no person is required to, nor shall a person be subject to a penalty for failure to comply with, a collection of information subject to the requirements of the PRA unless that collection of information displays a currently valid OMB control number.

EXECUTIVE ORDER 12866: This notice has been determined to be not significant for purposes of Executive Order 12866.

EXECUTIVE ORDER 13132 (FEDERALISM): It has been determined that this notice does not contain policies with Federalism implications as that term is defined in Executive Order 13132.

ADMINISTRATIVE PROCEDURE ACT/REGULATORY FLEXIBILITY ACT: Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Dated: March 13, 2008.
Steven A. Murawski,
Director of Scientific Programs and Chief Science Advisor, NOAA/National Marine Fisheries Service.

[FR Doc. E8-5567 Filed 3-18-08; 8:45 am]

BILLING CODE 3510-22-S